NATIONAL AERONAUTICS AND SPACE ADMINISTRATION

[Notice 02-005]

Notice of Prospective Patent and Copyright License

AGENCY: National Aeronautics and Space Administration.

ACTION: Notice of Prospective Patent and Copyright License.

SUMMARY: NASA hereby gives notice that Williams Electrical Systems Company of Greensboro, North Carolina has applied for an exclusive patent license for the “Remote Monitor Alarm System,” U.S. Patent No. 5,485,142, and an exclusive copyright license for KSC-12314, “Remote Monitoring and Alarm System,” both technologies are assigned to the United States of America as represented by the Administrator of the National Aeronautics and Space Administration. Written objections to the prospective grant of a license should be sent to Randall M. Heald, Assistant Chief Counsel/Patent Counsel, and John F. Kennedy Space Center.

DATES: Responses to this Notice must be received by January 31, 2002.

FOR FURTHER INFORMATION CONTACT: Randall M. Heald, Assistant Chief Counsel/Patent Counsel, John F. Kennedy Space Center, Mail Code: CC-A, Kennedy Space Center, FL 32899, telephone (321) 867-7214.

Dated: January 4, 2002.
Robert M. Stephens,
Deputy General Counsel.

[FR Doc. 02-1022 Filed 1-15-02; 8:45 am]

BILLING CODE 7510-01-P